DEPARTMENT OF COMMERCE

National Oceanic and Atmospheric Administration

Agency Information Collection Activities; Submission to the Office of Management and Budget (OMB) for Review and Approval; Comment Request; Fishery Capacity Reduction Program Buyback Requests

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 21, 2021 (86 FR 6634) during a 60-day comment period. This notice allows for an additional 30 days for public comments.

Agency: National Oceanic & Atmospheric Administration (NOAA), Commerce.

Title: Fishing Capacity Reduction Buyback Loan Programs.

OMB Control Number: 0648-0376.

Form Number(s): None.

Type of Request: Regular submission (revision and extension of a current information collection).

Number of Respondents: 220.

Average Hours per Response: 0.5 hours for fee collection reports; 4 hours for buyback annual reports.

Total Annual Burden Hours: 1,020.

Needs and Uses: Many U.S. fisheries have excess fishing capacity. Excess fishing capacity decreases earnings, complicates management, and imperils conservation. To provide for fishing capacity reduction programs, in 1996 Congress amended the Magnuson-Stevens Fishery Conservation and Management Act (Magnuson-Stevens Act) by adding section 312(b)-(e) (16 U.S.C. 1861a(b)-(e)). The framework regulations to conduct these reduction programs were published as an interim final rule on May 18, 2000 (65 FR 31430) and codified as subpart L to 50 CFR part 600. The repayment of the Fishing Capacity Reduction industry-funded program is dependent on the collection of fees by the first purchasers or processors of the fish from the buyback fishery. Collecting the information from the fee collection reports and annual reports is necessary to process these loan payments and maintain the repayment of the loans.

After further review, the following information collections are being removed from this renewal as they are associated with loan creation and no new loans are anticipated going forward:

• Fishing capacity reduction program implementation plans.

• State approvals of implementation plans and amendments to state Fishery Management Plans.

• Advance and post-bid referenda and bids.

• Buyer recordkeeping (fish tickets).

• Buyer/seller reports.

• Advisements of conflicts in ownership claims.

Affected Public: Businesses.

Frequency: Monthly and annually.

Respondent's Obligation: Required to Obtain or Retain Benefits.

Legal Authority: Public Law 104-297 Sec 312. Name of Law: Magnuson-Stevens Fishery Conservation and Management Reauthorization Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0376.

Sheleen Dumas,
Department PRA Clearance Officer, Office of the Chief Information Officer, Commerce Department.

[FR Doc. 2021-12416 Filed 6-11-21; 8:45 am]

BILLING CODE 3510-22-P